ENVIRONMENTAL PROTECTION AGENCY

40 CFR Part 52

[FRL-8760-9]

Approval and Promulgation of Air Quality Implementation Plans; Kansas; Update to Materials Incorporated by Reference

AGENCY: Environmental Protection Agency (EPA).

ACTION: Final rule; notice of administrative change.

SUMMARY: EPA is updating the materials submitted by Kansas that are incorporated by reference (IBR) into the state implementation plan (SIP). The regulations affected by this update have been previously submitted by the state agency and approved by EPA. This update affects the SIP materials that are available for public inspection at the National Archives and Records Administration (NARA), the Air and Radiation Docket and Information Center located at EPA Headquarters in Washington, DC, and the Regional Office.

DATES: Effective Date: This action is effective April 8, 2009.

ADDRESSES: SIP materials which are incorporated by reference into 40 CFR part 52 are available for inspection at the following locations: Environmental Protection Agency, Region 7, 901 North 5th Street, Kansas City, Kansas 66101, or at http://www.epa.gov/region07/programs/artd/air/rules/fedapprv.htm; the Air and Radiation Docket and Information Center, EPA Headquarters Library, Room Number 3334, EPA West Building, 1301 Constitution Avenue, NW., Washington, DC 20460, and the National Archives and Records Administration. If you wish to obtain materials from a docket in the EPA Headquarters Library, please call the Office of Air and Radiation Docket at (202) 566-1742. For information on the availability of this material at NARA, call (202) 741-6030, or go to: http://www.archives.gov/federal_register/code_of_federal_regulations/ibr_locations.html.

FOR FURTHER INFORMATION CONTACT: Evelyn VanGoethem at (913) 551-7659, or by e-mail at vangoethem.evelyn@epa.gov.

SUPPLEMENTARY INFORMATION: The SIP is a living document which the state revises as necessary to address the unique air pollution problems in the state. Therefore, EPA from time to time must take action on SIP revisions containing new and/or revised regulations to make them part of the SIP. On May 22, 1997 (62 FR 27968), EPA revised the procedures for incorporating by reference Federally-approved SIPs, as a result of consultations between EPA and the Office of Federal Register. The description of the revised SIP document, IBR procedures and “Identification of plan” format are discussed in further detail in the May 22, 1997, Federal Register document.

On February 12, 1999, EPA published a document in the Federal Register (64 FR 7091) beginning the new IBR procedure for Kansas. On November 14, 2003 (68 FR 64532), EPA published an update to the IBR material for Kansas.

In this document, EPA is doing the following:

1. Announcing the update to the IBR material as of December 1, 2008.

2. Correcting the date format in the “State effective date” or “State submittal date” and “EPA approval date” columns in § 52.870 paragraphs (c), (d) and (e). Dates are numerical month/day/year without additional zeros.

3. Modifying the Federal Register citation in § 52.870 paragraphs (c), (d) and (e) to reflect the beginning page of the preamble as opposed to the page number of the regulatory text.

EPA has determined that today's rule falls under the “good cause” exemption in section 553(b)(3)(B) of the Administrative Procedures Act (APA) which, upon finding “good cause,” authorizes agencies to dispense with public participation and section 553(d)(3), which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest.” Public comment is “unnecessary” and “contrary to the public interest” since the codification only reflects existing law. Immediate notice in the CFR benefits the public by providing notice of the updated Kansas SIP compilation.

Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA has also determined that the provisions of section 307(b)(1) of the Clean Air Act pertaining to petitions for judicial review are not applicable to this action. This action is simply an announcement of prior rulemakings that have previously undergone notice and comment. Prior EPA rulemaking actions for each individual component of the Kansas SIP compilation previously afforded interested parties the opportunity to file a petition for judicial review in the United States Court of Appeals for the appropriate circuit within 60 days of such rulemaking action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: March 26, 2009.
William Rice,
Acting Regional Administrator, Region 7.

40 CFR part 52 is amended as follows:

PART 52—[AMENDED]

1. The authority for citation for part 52 continues to read as follows:

Authority: 42 U.S.C. 7401 et seq.

Subpart R—Kansas

2. In § 52.870 paragraphs (b), (c), (d) and (e) are revised to read as follows:

§ 52.870 Identification of plan.

* * * * *

(b) Incorporation by reference.

(1) Material listed in paragraphs (c) and (d) of this section with an EPA approval date prior to December 1, 2008, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after December 1, 2008, will be incorporated by reference in the next update to the SIP compilation.

(2) EPA Region 7 certifies that the rules/regulations provided by EPA in the SIP compilation at the addresses in paragraph (b)(3) of this section are an exact duplicate of the officially promulgated state rules/regulations which have been approved as part of the SIP as of December 1, 2008.

(3) Copies of the materials incorporated by reference may be inspected at the Environmental Protection Agency, Region 7, Air Planning and Development Branch, 901 North 5th Street, Kansas City, Kansas 66101; at the EPA, Air and Radiation Docket and Information Center, Room Number 3334, EPA West Building, 1301 Constitution Avenue, NW., Washington, DC 20460; or at the National Archives and Records Administration (NARA). If you wish to obtain material from the EPA Regional Office, please call (913) 551-7659; for material from a docket in EPA Headquarters Library, please call the Office of Air and Radiation Docket at (202) 566-1742. For information on the availability of this material at NARA, call (202) 741-6030, or go to: http://www.archives.gov/federal_register/code_of_federal_regulations/ibr_locations.html.

(c) EPA-approved regulations.

EPA-Approved Kansas Regulations
Kansas citation | Title | State effective date | EPA approval date | Explanation
Kansas Department of Health and Environment Ambient Air Quality Standards and Air Pollution Control
General Regulations
K.A.R. 28-19-6 | Statement of Policy | 1/1/72 | 5/31/72, 37 FR 10867 | Kansas revoked this rule 5/1/82.
K.A.R. 28-19-8 | Reporting Required | 1/23/95 | 7/17/95, 60 FR 36361
K.A.R. 28-19-9 | Time Schedule for Compliance | 5/1/84 | 12/21/87, 52 FR 48265
K.A.R. 28-19-10 | Circumvention of Control Regulations | 1/1/71 | 5/31/72, 37 FR 10867
K.A.R. 28-19-11 | Exceptions Due to Breakdowns or Scheduled Maintenance | 1/1/74 | 11/8/73, 38 FR 30876
K.A.R. 28-19-12 | Measurement of Emissions | 1/1/71 | 5/31/72, 37 FR 10867
K.A.R. 28-19-13 | Interference with Enjoyment of Life and Property | 1/1/74 | 11/8/73, 38 FR 30876
K.A.R. 28-19-14 | Permits Required | 1/24/94 | 7/17/95, 60 FR 36361
K.A.R. 28-19-15 | Severability | 1/1/71 | 5/31/72, 37 FR 10867
Nonattainment Area Requirements
K.A.R. 28-19-16 | New Source Permit Requirements for Designated Nonattainment Areas | 10/16/89 | 1/16/90, 55 FR 1420
K.A.R. 28-19-16a | Definitions | 10/10/97 | 1/11/00, 65 FR 1545
K.A.R. 28-19-16b | Permit Required | 10/16/89 | 1/16/90, 55 FR 1420
K.A.R. 28-19-16c | Creditable Emission Reductions | 10/16/89 | 1/16/90, 55 FR 1420 | The EPA deferred action on the state's current definition of the terms “building, structure, facility, or installation”; “installation”; and “reconstruction.”
K.A.R. 28-19-16d | Fugitive Emission Exemption | 10/16/89 | 1/16/90, 55 FR 1420
K.A.R. 28-19-16e | Relaxation of Existing Emission Limitations | 10/16/89 | 1/16/90, 55 FR 1420
K.A.R. 28-19-16f | New Source Emission Limits | 10/16/89 | 1/16/90, 55 FR 1420
K.A.R. 28-19-16g | Attainment and Maintenance of National Ambient Air Quality Standards | 10/16/89 | 1/16/90, 55 FR 1420
K.A.R. 28-19-16h | Compliance of Other Sources | 10/16/89 | 1/16/90, 55 FR 1420
K.A.R. 28-19-16i | Operating Requirements | 10/16/89 | 1/16/90, 55 FR 1420
K.A.R. 28-19-16j | Revocation and Suspension of Permit | 10/16/89 | 1/16/90, 55 FR 1420
K.A.R. 28-19-16k | Notification Requirements | 10/16/89 | 1/16/90, 55 FR 1420
K.A.R. 28-19-16l | Failure to Construct | 10/16/89 | 1/16/90, 55 FR 1420
K.A.R. 28-19-16m | Compliance with Provisions of Law Required | 10/16/89 | 1/16/90, 55 FR 1420
Attainment Area Requirements
K.A.R. 28-19-17 | Prevention of Significant Deterioration of Air Quality | 11/22/02 | 2/26/03, 68 FR 8845 | K.A.R. 28-19-17a through 28-19-17q revoked. Provision moved to K.A.R. 28-19-350.
Stack Height Requirements
K.A.R. 28-19-18 | Stack Heights | 5/1/88 | 4/20/89, 54 FR 15934 | The state regulation has stack height credit. The EPA has not approved that part.
K.A.R. 28-19-18b | Definitions | 5/1/88 | 4/20/89, 54 FR 15934
K.A.R. 28-19-18c | Methods for Determining Good Engineering Practice Stack Height | 5/1/88 | 4/20/89, 54 FR 15934
K.A.R. 28-19-18d | Fluid Modeling | 5/1/88 | 4/20/89, 54 FR 15934
K.A.R. 28-19-18e | Relaxation of Existing Emission Limitations | 5/1/88 | 4/20/89, 54 FR 15934
K.A.R. 28-19-18f | Notification Requirements | 5/1/88 | 4/20/89, 54 FR 15934
Continuous Emission Monitoring
K.A.R. 28-19-19 | Continuous Emission Monitoring | 6/8/92 | 1/12/93, 58 FR 3847
Processing Operation Emissions
K.A.R. 28-19-20 | Particulate Matter Emission Limitations | 10/16/89 | 1/16/90, 55 FR 1420
K.A.R. 28-19-21 | Additional Emission Restrictions | 10/16/89 | 1/16/90, 55 FR 1420
K.A.R. 28-19-23 | Hydrocarbon Emissions—Stationary Sources | 12/27/72 | 11/8/73, 38 FR 30876
K.A.R. 28-19-24 | Control of Carbon Monoxide Emissions | 1/1/72 | 11/8/73, 38 FR 30876
Indirect Heating Equipment Emissions
K.A.R. 28-19-30 | General Provisions | 1/1/72 | 5/31/72, 37 FR 10867
K.A.R. 28-19-31 | Emission Limitations | 11/8/93 | 10/18/94, 59 FR 52425
K.A.R. 28-19-32 | Exemptions—Indirect Heating Equipment | 11/8/93 | 10/18/94, 59 FR 52425
Incinerator Emissions
K.A.R. 28-19-40 | General Provisions | 1/1/71 | 5/31/72, 37 FR 10867
K.A.R. 28-19-41 | Restriction of Emission | 12/27/72 | 11/8/73, 38 FR 30876
K.A.R. 28-19-42 | Performance Testing | 1/1/72 | 11/8/73, 38 FR 30876
K.A.R. 28-19-43 | Exceptions | 1/1/71 | 5/31/72, 37 FR 10867
Air Pollution Emergencies
K.A.R. 28-19-55 | General Provisions | 1/1/72 | 5/31/72, 37 FR 10867
K.A.R. 28-19-56 | Episode Criteria | 10/16/89 | 1/16/90, 55 FR 1420
K.A.R. 28-19-57 | Emission Reduction Requirements | 1/1/72 | 5/31/72, 37 FR 10867
K.A.R. 28-19-58 | Emergency Episode Plans | 1/1/72 | 5/31/72, 37 FR 10867
Volatile Organic Compound Emissions
K.A.R. 28-19-61 | Definitions | 10/7/91 | 6/23/92, 57 FR 27936
K.A.R. 28-19-62 | Testing Procedures | 10/7/71 | 6/23/92, 57 FR 27936
K.A.R. 28-19-63 | Automobile and Light Duty Truck Surface Coating | 11/8/93 | 10/18/94, 59 FR 52425
K.A.R. 28-19-64 | Bulk Gasoline Terminals | 5/1/88 | 5/18/88, 53 FR 17700
K.A.R. 28-19-65 | Volatile Organic Compounds (VOC) Liquid Storage in Permanent Fixed Roof Type Tanks | 5/1/88 | 5/18/88, 53 FR 17700
K.A.R. 28-19-66 | Volatile Organic Compounds (VOC) Liquid Storage in External Floating Roof Tanks | 5/1/88 | 5/18/88, 53 FR 17700
K.A.R. 28-19-67 | Petroleum Refineries | 5/1/86 | 1/2/87, 52 FR 53
K.A.R. 28-19-68 | Leaks from Petroleum Refinery Equipment | 5/1/86 | 1/2/87, 52 FR 53
K.A.R. 28-19-69 | Cutback Asphalt | 5/1/88 | 5/18/88, 53 FR 17700
K.A.R. 28-19-70 | Leaks from Gasoline Delivery Vessels and Vapor Collection Systems | 5/15/98 | 1/11/00, 65 FR 1545
K.A.R. 28-19-71 | Printing Operations | 5/1/88 | 5/18/88, 53 FR 17700
K.A.R. 28-19-72 | Gasoline Dispensing Facilities | 5/1/88 | 5/18/88, 53 FR 17700
K.A.R. 28-19-73 | Surface Coating of Miscellaneous Metal Parts and Products and Metal Furniture | 6/8/92 | 1/12/93, 58 FR 3847
K.A.R. 28-19-74 | Wool Fiberglass Manufacturing | 5/1/88 | 5/18/88, 53 FR 17700
K.A.R. 28-19-76 | Lithography Printing Operations | 10/7/91 | 6/23/92, 57 FR 27936
K.A.R. 28-19-77 | Chemical Processing Facilities That Operate Alcohol Plants or Liquid Detergent Plants | 10/7/91 | 6/23/92, 57 FR 27936
General Provisions
K.A.R. 28-19-200 | General Provisions; definitions | 10/10/97 | 1/11/00, 65 FR 1545 | New rule. Replaces K.A.R. 28-19-7 definitions.
K.A.R. 28-19-201 | General Provisions; Regulated Compounds List | 10/10/97 | 1/11/00, 65 FR 1545 | New rule. Replaces Regulated Compounds in K.A.R. 28-19-7.
K.A.R. 28-19-204 | Permit Issuance and Modification; Public Participation | 1/23/95 | 7/17/95, 60 FR 36361
K.A.R. 28-19-210 | Calculation of Actual Emissions | 11/22/93 | 1/11/00, 65 FR 1545
K.A.R. 28-19-212 | Approved Test Methods and Emission Compliance Determination Procedures | 1/23/95 | 7/17/95, 60 FR 36361
Construction Permits and Approvals
K.A.R. 28-19-300 | Applicability | 1/23/95 | 7/17/95, 60 FR 36361
K.A.R. 28-19-301 | Application and Issuance | 1/23/95 | 7/17/95, 60 FR 36361
K.A.R. 28-19-302 | Additional Provisions; Construction Permits | 1/23/95 | 7/17/95, 60 FR 36361
K.A.R. 28-19-303 | Additional Provisions; Construction Approvals | 1/23/95 | 7/17/95, 60 FR 36361
K.A.R. 28-19-304 | Fees | 1/23/95 | 7/17/95, 60 FR 36361
K.A.R. 28-19-350 | Prevention of Significant Deterioration (PSD) of Air Quality | 6/30/06 | 5/29/07, 72 FR 29429 | Kansas did not adopt subsections with references to the clean unit exemptions, pollution control projects and the recordkeeping provisions for the actual-to-projected-actual emissions applicability test because of the June 24, 2005, decision of the United States Court of Appeals for the District of Columbia Circuit relating to the Clean Unit Exemption, Pollution Control Projects and the recordkeeping provisions for the actual-to-projected-actual emissions applicability test.
General Permits
K.A.R. 28-19-400 | General Requirements | 1/23/95 | 7/17/95, 60 FR 36361
K.A.R. 28-19-401 | Adoption by the Secretary | 1/23/95 | 7/17/95, 60 FR 36361
K.A.R. 28-19-402 | Availability of Copies; Lists of Sources to Which Permits Issued | 1/23/95 | 7/17/95, 60 FR 36361
K.A.R. 28-19-403 | Application to Construct or Operate Pursuant to Terms of General Permits | 1/23/95 | 7/17/95, 60 FR 36361
K.A.R. 28-19-404 | Modification, Revocation | 1/23/95 | 7/17/95, 60 FR 36361
Operating Permits
K.A.R. 28-19-500 | Applicability | 1/23/95 | 7/17/95, 60 FR 36361
K.A.R. 28-19-501 | Emissions Limitations and Pollution Control Equipment for Class I and Class II Operating Permits; Conditions | 1/23/95 | 7/17/95, 60 FR 36361
K.A.R. 28-19-502 | Identical Procedural Requirements | 1/23/95 | 7/17/95, 60 FR 36361
Class II Operating Permits
K.A.R. 28-19-540 | Applicability | 1/23/95 | 7/17/95, 60 FR 36361
K.A.R. 28-19-541 | Application Timetable and Contents | 1/23/95 | 7/17/95, 60 FR 36361
K.A.R. 28-19-542 | Permit-by-Rule | 9/23/05 | 2/8/08, 73 FR 7468
K.A.R. 28-19-543 | Permit Term and Content; Operational Compliance | 1/23/95 | 7/17/95, 60 FR 36361
K.A.R. 28-19-544 | Modification of Sources or Operations | 1/23/95 | 7/17/95, 60 FR 36361
K.A.R. 28-19-545 | Application Fee | 1/23/95 | 7/17/95, 60 FR 36361
K.A.R. 28-19-546 | Annual Emission Inventory | 9/23/05 | 2/8/08, 73 FR 7468
K.A.R. 28-19-561 | Permit-by-Rule; Reciprocating Engines | 9/23/05 | 2/8/08, 73 FR 7468
K.A.R. 28-19-562 | Permit-by-Rule; Organic Solvent Evaporative Sources | 9/23/05 | 2/8/08, 73 FR 7468
K.A.R. 28-19-563 | Permit-by-Rule; Hot Mix Asphalt Facilities | 9/23/05 | 2/8/08, 73 FR 7468
K.A.R. 28-19-564 | Permit-by-Rule; Sources with Actual Emissions Less Than 50 Percent of Major Source Thresholds | 10/4/02 | 3/26/03, 68 FR 14540
Open Burning Restrictions
K.A.R. 28-19-645 | Open Burning Prohibited | 3/1/96 | 10/2/96, 61 FR 51366
K.A.R. 28-19-646 | Responsibility for Open Burning | 3/1/96 | 10/2/96, 61 FR 51366
K.A.R. 28-19-647 | Exceptions to Prohibition on Open Burning | 3/1/96 | 10/2/96, 61 FR 51366
K.A.R. 28-19-648 | Agricultural Open Burning | 3/1/96 | 10/2/96, 61 FR 51366
K.A.R. 28-19-650 | Emissions Opacity Limits | 1/29/99 | 1/11/00, 65 FR 1545 | New rule. Replaces K.A.R. 28-19-50 and 28-19-52.
Volatile Organic Compound Emissions
K.A.R. 28-19-714 | Control of Emissions from Solvent Metal Cleaning | 9/1/02 | 10/30/02, 67 FR 66058
K.A.R. 28-19-717 | Control of Volatile Organic Compound (VOC) Emissions from Commercial Bakery Ovens in Johnson and Wyandotte Counties | 12/22/00 | 12/12/01, 66 FR 64148
K.A.R. 28-19-719 | Fuel Volatility | 4/27/01 | 2/13/02, 67 FR 6655
Conformity
K.A.R. 28-19-800 | General Conformity of Federal Actions | 3/15/96 | 10/2/96, 61 FR 51366

(d) EPA-approved State source-specific permits.

EPA-Approved Kansas Source-Specific Permits
Name of source | Permit No. | State effective date | EPA approval date | Explanation
(1) Board of Public Utilities, Quindaro Power Station | 2090048 | 10/20/93 | 10/18/94, 59 FR 52425
(2) Board of Public Utilities, Kaw Power Station | 2090049 | 10/20/93 | 10/18/94, 59 FR 52425

(e) EPA-approved nonregulatory provisions and quasi-regulatory measures.

EPA-Approved Kansas Nonregulatory Provisions
Name of nonregulatory SIP provision | Applicable geographic or Nonattainment area | State submittal date | EPA approval date | Explanation
(1) Implementation Plan for Attainment and Maintenance of the National Air Quality Standards | Statewide | 1/31/72 | 5/31/72, 37 FR 10867
(2) Comments on the Plan in Response to EPA Review | Kansas City | 3/24/72 | 6/22/73, 38 FR 16550 | Correction notice published 3/2/76.
(3) Emergency Episode Operations/Communications Manual | Kansas City | 4/6/72 | 11/8/73, 38 FR 30876 | Correction notice published 3/2/76.
(4) Emergency Episode Operations/Communications Manual | Statewide except Kansas City | 2/15/73 | 11/8/73, 38 FR 30876 | Correction notice published 3/2/76.
(5) Letter Concerning Attainment of CO Standards | Kansas City | 5/29/73 | 11/8/73, 38 FR 30876 | Correction notice published 3/2/76.
(6) Amendment to State Air Quality Control Law Dealing with Public Access to Emissions Data | Statewide | 7/27/73 | 11/8/73, 38 FR 30876 | Correction notice published 3/2/76.
(7) Analysis and Recommendations Concerning Designation of Air Quality Maintenance Areas | Statewide | 2/28/74 | 3/2/76, 41 FR 8956
(8) Ozone Nonattainment Plan | Kansas City | 9/17/79 | 4/3/81, 46 FR 20164
(9) Ozone Nonattainment Plan | Douglas County | 10/22/79 | 4/3/81, 46 FR 20164
(10) TSP Nonattainment Plan | Kansas City | 3/10/80 | 4/3/81, 46 FR 20164
(11) Lead Plan | Statewide | 2/17/81 | 10/22/81, 46 FR 51742
(12) CO Nonattainment Plan | Wichita | 4/16/81 | 12/15/81, 46 FR 61117
(13) Air Monitoring Plan | Statewide | 10/16/81 | 1/22/82, 47 FR 3112
(14) Letter and Supporting Documentation Relating to Reasonably Available Control Technology for Certain Particulate Matter Sources | Kansas City | 9/15/81 | 6/18/82, 47 FR 26387 | Correction notice published 1/12/84.
(15) Letter Agreeing to Follow EPA Interim Stack Height Policy for Each PSD Permit Issued Until EPA Revises the Stack Height Regulations | Statewide | 6/20/84 | 12/11/84, 49 FR 48185
(16) Letters Pertaining to Permit Fees | Statewide | 3/27/86, 9/15/87 | 12/21/87, 52 FR 48265
(17) Revisions to the Ozone Attainment Plan | Kansas City | 7/2/86, 4/16/87, 8/18/87, 8/19/87, 1/6/88 | 5/18/88, 53 FR 17700
(18) Revised CO Plan | Wichita | 3/1/85, 9/3/87 | 10/28/88, 53 FR 43691
(19) Letter Pertaining to the Effective Date of Continuous Emission Monitoring Regulations | Statewide | 1/6/88 | 11/25/88, 53 FR 47690
(20) Letters Pertaining to New Source Permit Regulations, Stack Height Regulations, and Stack Height Analysis and Negative Declarations | Statewide | 3/27/86, 12/7/87, 1/6/88 | 4/20/89, 54 FR 15934
(21) PM10 Plan | Statewide | 10/5/89, 10/16/89 | 1/16/90, 55 FR 1420
(22) Ozone Maintenance Plan | Kansas City | 10/23/91 | 6/23/92, 57 FR 27936
(23) Letter Pertaining to PSD NOX Requirements | Statewide | 9/15/92 | 1/12/93, 58 FR 3847
(24) Small Business Assistance Plan | Statewide | 1/25/94 | 5/12/94, 59 FR 24644
(25) Letter Regarding Compliance Verification Methods and Schedules Pertaining to the Board of Public Utilities Power Plants | Kansas City | 12/11/92 | 10/18/94, 59 FR 52425
(26) Emissions Inventory Update Including a Motor Vehicle Emissions Budget | Kansas City | 5/11/95 | 4/25/96, 61 FR 18251
(27) Air monitoring plan | Statewide | 1/6/02 | 8/30/02, 67 FR 55726
(28) Maintenance Plan for the 1-hour ozone standard in the Kansas portion of the Kansas City maintenance area for the second ten-year period | Kansas City | 1/9/03 | 1/13/04, 69 FR 1919
(29) Revision to Maintenance Plan for the 1-hour ozone standard in the Kansas portion of the Kansas City maintenance area for the second ten-year period | Kansas City | 2/10/06 | 6/26/06, 71 FR 36213
(30) CAA 110(a)(2)(D)(i) SIP—Interstate Transport | Statewide | 1/7/07 | 3/9/07, 72 FR 10608
(31) Maintenance Plan for the 8-hour ozone standard in the Kansas portion of the Kansas City area | Kansas City | 5/23/07 | 8/9/07, 72 FR 44781. | This plan replaces numbers (28) and (29).

[FR Doc. E9-7959 Filed 4-7-09; 8:45 am]

BILLING CODE 6560-50-P